DEPARTMENT OF DEFENSE

Department of the Army

Army Science Board Winter Plenary Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3.140 through 160, the Department of the Army announces the following committee meeting:

Name of Committee: Army Science Board (ASB) Winter Plenary Session.

Date: January 15, 2014.

Time: 0830-0945.

Location: Grand Hyatt San Antonio, 600 E. Market Street, San Antonio, TX 78205.

Purpose of Meeting: The purpose of the meeting is for the Army Science Board to review the results of the FY13 study titled, “Creating an Innovation Culture in the Army” in an open session and begin work on the FY14 study topics.

Agenda: The board will convene on January 15, 0830-0945, at the hotel conference facility to conduct a public vote on the results of the Fiscal Year 2013 “Creating an Innovation Culture” Study. The ASB board members will cast a vote to accept the results of this study and record that vote for the record according to the Army Science Board Bylaws, Article VII, Section 2 and Sunshine in the Government Act of 1976.

Committee's Designated Federal Officer (DFO)/Point of Contact: COL William McLagan at (703) 545-8651 or email: william.m.mclagan.mil@mail.mil or Ms. Carolyn German at (703) 545-8654 or email: carolyn.t.german.civ@mail.mil.

SUPPLEMENTARY INFORMATION (Filing Written Statement): Pursuant to 41 CFR 102-3.140d, the Committee is not obligated to allow the public to speak; however, interested persons may submit a written statement for consideration by the Subcommittees. Individuals submitting a written statement must submit their statement to the Designated Federal Officer (DFO) at the address listed below. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

FOR FURTHER INFORMATION CONTACT: Army Science Board, Designated Federal Officer, 2530 Crystal Drive, Suite 7098, Arlington,VA 22202.

Brenda S. Bowen,
Army Federal Register Liaison Officer.

[FR Doc. 2013-29250 Filed 12-6-13; 8:45 am]

BILLING CODE 3710-08-P